FEDERAL COMMUNICATIONS COMMISSION

47 CFR Part 73

[MB Docket No. 21-57; RM-11882; DA 21-480; FR ID 24753]

Television Broadcasting Services Savannah, Georgia

AGENCY: Federal Communications Commission.

ACTION: Final rule.

SUMMARY: On February 22, 2021, the Media Bureau, Video Division (Bureau) issued a Notice of Proposed Rulemaking in response to a petition for rulemaking filed by Gray Television Licensee, LLC (Gray), the licensee of WTOC-TV, channel 11 (CBS), Savannah, Georgia, requesting the substitution of channel 23 for channel 11 at Savannah in the DTV Table of Allotments. For the reasons set forth in the Report and Order referenced below, the Bureau amends FCC regulations to substitute channel 23 for channel 11 at Savannah.

DATES: Effective May 10, 2021.

FOR FURTHER INFORMATION CONTACT: Andrew Manley, Media Bureau, at (202) 418-0596 or AndrewManley@fcc.gov.

SUPPLEMENTARY INFORMATION: The proposed rule was published at 86 FR 12898 on March 5, 2021. Gray filed comments in support of the petition reaffirming its commitment to applying for channel 23. No other comments were received. In support, Gray states that the Commission has recognized that VHF channels have certain propagation characteristics which may cause reception issues for some viewers, and that many of its viewers experience significant difficulty receiving WTOC's signal. Gray also demonstrated that all of the terrain-limited service area of WTOC's licensed channel 11 will receive terrain-limited service from the proposed channel 23, and that operation on channel 23 will not result in any predicted loss of service. The Bureau believes the public interest would be served by the channel substitution because it will result in improved service.

This is a synopsis of the Commission's Report and Order, MB Docket No. 21-61; RM-11885; DA 21-477, adopted April 26, 2021, and released April 26, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(i), amend the Post-Transition Table of DTV Allotments, under Georgia, by revising the entry for Savannah to read as follows:

§ 73.622 Digital television table of allotments.

* * * * *

(i) * * *

Community | Channel No.
* * * * *
GEORGIA
* * * * *
Savannah | * 9, 22, 23, 39
* * * * *

[FR Doc. 2021-09693 Filed 5-7-21; 8:45 am]

BILLING CODE 6712-01-P